DEPARTMENT OF HEALTH AND HUMAN SERVICES

Centers for Disease Control and Prevention

National Center for Health Statistics, Meeting of the ICD-10 Coordination and Maintenance Committee

AGENCY: Centers for Disease Control and Prevention (CDC), Department of Health and Human Services (HHS).

ACTION: Notice of meeting.

SUMMARY: The Centers for Disease Control and Prevention (CDC), National Center for Health Statistics (NCHS), Classifications and Public Health Data Standards Staff, announces the following meeting of the ICD-10 Coordination and Maintenance (C&M) Committee. This meeting is open to the public, limited only by the number of audio lines available. Online registration is required.

DATES: The meeting will be held on March 19, 2024, from 9 a.m. to 5 p.m., EDT, and March 20, 2024, from 9 a.m. to 5 p.m., EDT.

ADDRESSES: This is a virtual meeting. Register in advance at https://cms.zoomgov.com/webinar/register/WN_zqbhSXNtSEmAVWJhs4-4kA. The Webinar ID is 161 010 6901; the Passcode is 681647. After registering, you will receive a confirmation email containing information about joining the meeting. Further information will be provided on each of the respective web pages when it becomes available. For CDC, NCHS: https://www.cdc.gov/nchs/icd/icd10cm_maintenance.htm. For the Centers for Medicare & Medicaid Services, Department of Health and Human Services: https://www.cms.gov/medicare/coding-billing/icd-10-codes/icd-10-coordination-maintenance-committee-materials.

FOR FURTHER INFORMATION CONTACT: Traci Ramirez, Medical Classification Specialist, National Center for Health Statistics, Centers for Disease Control and Prevention, 3311 Toledo Road, Hyattsville, Maryland 20782-2064. Telephone: (301) 458-4454; Email: TRamirez@cdc.gov.

SUPPLEMENTARY INFORMATION:

Purpose: The ICD-10 Coordination and Maintenance (C&M) Committee is a public forum for the presentation of proposed modifications to the International Classification of Diseases, Tenth Revision, Clinical Modification (CM) and ICD-10 Procedure Coding System (PCS).

Matters to be Considered: The tentative agenda will include discussions on the ICD-10-CM and ICD-10-PCS topics listed below. Agenda items are subject to change as priorities dictate. Please refer to the posted agenda for updates one month prior to the meeting.

ICD-10-PCS Topics:

1. Restriction Using Thoracoabdominal Branch Endoprosthesis *

2. Tibiotalocalcaneal Fusion with Fixation Implant *

3. Fiber Optic 3D Real-time Device Guidance **

4. Visualization and Analysis of Brain Networks in Magnetic Resonance Imaging *

5. Lymphatic Bypass

6. Performance of Circulatory Filtration

7. Quantitative Antimicrobial Susceptibility Testing of Blood Cultures

8. Transcatheter Tricuspid Valve Replacement *

9. Cellular Assessment via Microfluidic Deformability Cytometry **

10. Fixation of Lumbar Facet Joint

11. Extracorporeal Blood Pathogen Removal **

12. Application of prademagene zamikeracel **

13. Adoptive Immune Therapy

14. Administration of dasiglucagon

15. Drug-eluting Resorbable Scaffold System

16. Continuous Monitoring and Assessment of Vascular Blood Flow *

17. Paclitaxel-coated Balloon Catheter for Percutaneous Coronary Intervention

18. Division of Bioprosthetic Aortic Valve Leaflets **

19. Computer-aided Triage and Notification for Measurement of Intracranial Cerebrospinal Fluid Flow *

20. Implantation of Bioengineered Vessel **

21. Rapid Antimicrobial Susceptibility Testing of Blood Cultures *

22. Stereoelectroencephalographic Radiofrequency Ablation of Brain and Nervous Tissue

23. Insertion of Antibiotic Instilling Joint Spacer **

24. Posterior Fixation of the Thoracolumbar Spine *

25. Section X Updates

26. Addenda and Key Updates

27. Administration of bentracimab **

28. Administration of cefepime-taniborbactam *

29. Administration of ceftobiprole medocaril *

30. Administration of obecabtagene autoleucel **

31. Administration of odronextamab *

32. Administration of Orca-T **

33. Administration of RP-L201 (marnetegragene autotemcel) *

34. Administration of zanidatamab **

35. Donislecel-jujn Allogeneic Pancreatic Islet Cellular Suspension for Hepatic Portal Vein Infusion *

* Requestor has submitted a new technology add-on payment (NTAP) application for FY 2025 consideration.

** Request is for an October 1, 2024, implementation date, and the requestor intends to submit an NTAP application for FY 2026 consideration.

Presentations for procedure code requests are conducted by both the requestor and the Centers for Medicare & Medicaid Services (CMS) during the C&M Committee meeting. Discussion from the requestor generally focuses on the clinical issues for the procedure or technology, followed by the proposed coding options from a CMS analyst. Topics presented may also include requests for new procedure codes that relate to a new technology add-on payment (NTAP) policy request.

CMS has modified the approach for presenting the new NTAP-related ICD-10-PCS procedure code requests that involve the administration of a therapeutic agent. For the March 19-20, 2024, ICD-10 C&M Committee meeting, consistent with the requirements of section 1886(d)(5)(K)(iii) of the Social Security Act, applicants submitted requests to create a unique procedure code to describe the administration of a therapeutic agent, such as the option to create a new code in Section X within the ICD-10-PCS procedure code classification. CMS will initially display only those meeting materials associated with the NTAP-related ICD-10-PCS procedure code requests that involve the administration of a therapeutic agent on the CMS website in early March 2024 at: https://www.cms.gov/medicare/coding-billing/icd-10-codes/icd-10-coordination-maintenance-committee-materials.

The nine NTAP-related ICD-10-PCS procedure code requests that involve the administration of a therapeutic agent are:

1. Administration of bentracimab **

2. Administration of cefepime-taniborbactam *

3. Administration of ceftobiprole medocaril *

4. Administration of obecabtagene autoleucel **

5. Administration of odronextamab *

6. Administration of Orca-T **

7. Administration of RP-L201 (marnetegragene autotemcel) *

8. Administration of zanidatamab **

9. Donislecel-jujn Allogeneic Pancreatic Islet Cellular Suspension for Hepatic Portal Vein Infusion *

* Requestor has submitted an NTAP application for FY 2025 consideration.

** Request is for an October 1, 2024, implementation date, and the requestor intends to submit an NTAP application for FY 2026 consideration.

These topics will not be presented during the March 19-20, 2024, meeting. CMS will solicit public comments regarding any clinical questions or coding options included for these procedure code topics in advance of the meeting continuing through the end of the respective public comment periods. Members of the public should send any questions or comments to the CMS mailbox at: ICDProcedureCodeRequest@cms.hhs.gov.

CMS intends to post a question-and-answer document in advance of the meeting to address any clinical or coding questions that members of the public may have submitted. Following the conclusion of the meeting, CMS will post an updated question-and-answer document to address any additional clinical or coding questions that members of the public may have submitted during the meeting that CMS was not able to address or that were submitted after the meeting.

The NTAP-related ICD-10-PCS procedure code requests that do not involve the administration of a therapeutic agent and all non-NTAP-related procedure code requests will continue to be presented during the virtual meeting on March 19, 2024, consistent with the standard meeting process.

CMS will make all meeting materials and related documents available at: https://www.cms.gov/medicare/coding-billing/icd-10-codes/icd-10-coordination-maintenance-committee-materials. Any inquiries related to the procedure code topics scheduled for the March 19, 2024, ICD-10 C&M Committee meeting day that are under consideration for October 1, 2024, implementation should be sent to the CMS mailbox at: ICDProcedureCodeRequest@cms.hhs.gov.

ICD-10-CM Topics:

1. Abnormal Anti-cyclic Citrullinated Peptide Antibody and/or Rheumatoid Factor Without Current or Prior Clinical Diagnosis of Rheumatoid Arthritis

2. APOL1-mediated Kidney Disease

3. Baked Egg Tolerance

4. Baked Milk Tolerance

5. Coding of Firearms Injuries Default

6. DLG4-related Synaptopathy

7. Flank Anatomical Specificity

8. Glutamate Receptor, Ionotropic, Gene-related Neurodevelopmental Disorders

9. Gulf War Illness

10. Hyperoxaluria

11. Post-exertional Malaise

12. SCN2A-related Disorders

13. SLC6A1-related Disorders

14. STXBP1-related Disorders

15. Usher Syndrome

16. Addenda

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2024-02178 Filed 2-2-24; 8:45 am]

BILLING CODE 4163-18-P